DEPARTMENT OF ENERGY

Federal Energy Regulatory Commission

[Docket No. CP08-424-000]

Colorado Interstate Gas Company; Notice of Request Under Blanket Authorization

June 23, 2008.

Take notice that on June 17, 2008, Colorado Interstate Gas Company (CIG), Post Office Box 1087, Colorado Springs, Colorado 80944, filed in Docket No. CP08-424-000, a prior notice request pursuant to sections 157.205(b) and 157.216(b) of the Federal Energy Regulatory Commission's regulations under the Natural Gas Act for authorization to abandon in place a 4.7-mile segment of 22-inch outer diameter pipe on its Wyoming Mainline (Line No. 5A) located in Adams and Denver Counties, Colorado, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

CIG proposes to abandon in place a 4.7-mile segment of Line No. 5A. CIG asserts that this segment has not provided natural gas service for several years. CIG states that this segment is located in an area with increasing right-of-way encroachment, which requires increased monitoring, making this segment operationally undesirable. CIG asserts that the ongoing monitoring, operation, and maintenance (O&M) activities on the 4.7-mile segment of Line No. 5A cost CIG approximately $12,000 annually. CIG states that the proposed abandonment will have no operational impacts on CIG, nor will it adversely affect CIG's ability to meet any of its existing contractual obligations. CIG avers that the abandonment of the 4.7-mile segment of Line No. 5A will not impact the available capacity for CIG's Wyoming Mainline or its overall system capacity.

Any questions regarding the application should be directed to Richard Derryberry, Director, Regulatory Affairs Department, Colorado Interstate Gas Company, Post Office Box 1087, Colorado Springs, Colorado 80904, or (719) 520-3782.

Any person may, within 60 days after the issuance of the instant notice by the Commission, file pursuant to Rule 214 of the Commission's Procedural Rules (18 CFR 385.214) a motion to intervene or notice of intervention. Any person filing to intervene or the Commission's staff, may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Comment Date: August 25, 2008.

Kimberly D. Bose,
Secretary.

[FR Doc. E8-14682 Filed 6-27-08; 8:45 am]

BILLING CODE 6717-01-P